DEPARTMENT OF HEALTH AND HUMAN SERVICES

The Interagency Coordination Committee on the Prevention of Underage Drinking Requests for Public Comments

AGENCY: The Interagency Coordinating Committee on the Prevention of Underage Drinking (ICCPUD), Office of Disease Prevention and Health Promotion, and Substance Abuse and Mental Health Services Administration (SAMHSA), Office of the Assistant Secretary for Health (OASH), U.S. Department of Health and Human Services (HHS).

ACTION: Notice of request for information.

SUMMARY: The Interagency Coordinating Committee on the Prevention of Underage Drinking requests public comments on the Alcohol Intake and Health methodology developed for performing a series of studies assessing the relationship between alcohol intake and related health conditions. The Alcohol Intake and Health studies will be completed by experts with experience conducting meta-analyses, relative risk estimates, and systematic reviews related to alcohol intake and health. The studies will assess the current, best, and most applicable scientific evidence on the relationship between consumption of alcohol and health outcomes.

DATES: Consideration will be given to all written comments received by August 2, 2024.

ADDRESSES: Interested persons are invited to submit written comments to samhsapra@samhsa.hhs.gov. You may submit attachments to electronic comments in Microsoft Word, Excel, or Adobe PDF file formats.

FOR FURTHER INFORMATION CONTACT: Send comments related to the methods for the Alcohol Intake and Health Study to Robert Vincent, SAMHSA Reports Clearance Officer, Center for Behaviors Health Quality and Statistics, Substance Abuse and Mental Health Services Administration, 5600 Fishers Lane, Room 15E45, Rockville, MD 20857; Phone: (240) 276-0166; Email: samhsapra@samhsa.hhs.gov. Additional information is at ICCPUD Study on Alcohol Intake and Health (StopAlcoholAbuse.gov).

SUPPLEMENTARY INFORMATION:

Authority and Purpose: The Interagency Coordinating Committee on the Prevention of Underage Drinking (ICCPUD) was created in 2004 when Congress directed the Secretary of HHS to establish the ICCPUD to coordinate all federal agency activities related to the problem of underage drinking.

In April 2022, to support the Dietary Guidelines for Americans process and be responsive to stakeholder interest in the subject, the Alcohol Intake and Health Study (Study) was devised and approved by ICCPUD principles. The Study is designed to assess the scientific evidence on the relationship between chronic alcohol use and multiple health conditions, the relationship between alcohol use and injury risk, lifetime risks of alcohol-attributable mortality and morbidity, and the burden of disease related to alcohol intake in the United States. This information will be provided to HHS and USDA for consideration during the development of the 2025-2030 Dietary Guidelines for Americans.

Subcommittees Task: To support the Study, the ICCPUD convened a Technical Review Subcommittee (Subcommittee) and an external Scientific Review Panel (SRP). The Subcommittee is composed of ICCPUD member agencies that have subject matter and scientific expertise in alcohol intake and health policy and research, including:

• Office of the Assistant Secretary for Health

• U.S. Department of Agriculture

• Agency for Health Care Research and Quality

• Centers for Disease Control and Prevention

• Executive Office of the President, Office of National Drug Control Policy

• Indian Health Service

• National Institutes of Health, National Institute on Alcohol Abuse and Alcoholism

• National Institutes of Health, National Cancer Institute

• Substance Abuse and Mental Health Services Administration

The Subcommittee will review all available literature and synthesize the data and conclusions from the Scientific Review Panel. The Subcommittee will assess the scientific evidence provided by the SRP in conjunction with the findings from a complementary National Academies of Science, Engineering, and Medicine (NASEM) Review of Evidence on Alcohol and Health (www.NationalAcademies.org/our-work/review-of-evidence-on-alcohol-and-health), provide a synthesis of the data, and summarize the science for the 2025 Report to Congress and provide input to the process for developing the 2025-2030 Dietary Guidelines for Americans related to alcohol and health.

The SRP is composed of nationally and internationally renowned subject matter experts. The SRP will conduct a series of studies to assess the available scientific research on alcohol intake and health and will provide the Subcommittee with an assessment of the best available science related to the risks of alcohol use on various health outcomes. Individuals of the SRP have expertise in the following areas:

• Public health strategies related to alcohol policies, programs, and practices

• Health effects of alcohol

• Dietary guidance policy

• Cancer epidemiology

• Data quality and analysis

• Systematic reviews and meta-analyses

• Biostatistics

• Adverse pregnancy outcomes

All Subcommittee members and external subject matter experts are required to declare sources of funding (direct or indirect) and any connection (direct or indirect) with the tobacco, alcohol, cannabis, or pharmaceutical industries, including any connection (direct or indirect) with any entity that is substantially funded by one of these organizations. Biographies and financial disclosures can be found on the ICCPUD Study on Alcohol Intake and Health website: www.StopAlcoholAbuse.gov/research-resources/alcohol-intake-health.aspx.

Public Comments: ICCPUD requests written comment from the public on the Alcohol Intake and Health Methodology. Public comment is intended to ensure the broadest evidence base and available data are considered in this study and that the Alcohol Intake and Health methodology is scientifically rigorous. Alcohol Intake and Health methodology materials for public comment can be accessible at www.stopalcoholabuse.gov/research-resources/alcohol-intake-health.aspx. Materials may be requested by email at samhsapra@samhsa.hhs.gov.

• Mail: Mail/courier to SAMHSA Reports Clearance Officer, Center for Behaviors Health Quality and Statistics, Substance Abuse and Mental Health Services Administration, 5600 Fishers Lane, Room 15E45, Rockville, MD 20857.

• When providing public comment, please consider the following questions:

○ Are the topic areas defined in the methodology sufficient for understanding the relationship between alcohol intake and health?

○ Is the methodology clear and transparent?

○ Are the methods proposed scientifically valid?

○ Are the risks of bias identified?

○ Are strategies to minimize bias included?

○ Are there other methodological approaches that should be considered to estimate the risk of alcohol consumption on specific health outcomes?

○ Are the methods proposed subject to major limitations? If so, what strategies could be employed to minimize these limitations?

○ Are there additional data sources that should be considered and/or included for a comprehensive understanding of the burden of alcohol-related diseases?

○ Are there specific scientific papers or research that should be included in the assessment of risk or concerns regarding the overall methodology outlined in the document?

Dated: June 28, 2024.
Paul Reed,
Deputy Assistant Secretary for Health, Office of Disease Prevention and Health Promotion.

[FR Doc. 2024-14650 Filed 7-2-24; 8:45 am]

BILLING CODE 4150-32-P